DEPARTMENT OF HEALTH AND HUMAN SERVICES

Administration for Children and Families

Submission for OMB Review; Comment Request

Title: Descriptive Study of Early Head Start (Early Head Start Family and Child Experiences Study; Baby FACES).

OMB No.: 0970-0354.

Description: The Administration for Children and Families (ACF), U.S. Department of Health and Human Services (HHS), anticipates continuing data collection for wave 4 of the parent interview, teacher child reports, care provider interviews and observations, direct child assessments, program director interviews, and family service tracking for the pen-natal cohort of the Descriptive Study of Early Head Start (Early Head Start Family and Child Experiences Study; Baby FACES). Data collection will continue for an additional 12 months beyond the current date of expiration (October 31, 2011).

This data collection is a part of Baby FACES, which is an important opportunity to provide a description of the characteristics, experiences, and outcomes of Early Head Start children and families, and Early Head Start Program services and delivery. All of the information obtained will be used to help Early Head Start improve services to infants and toddlers and their families. Baby FACES uses a longitudinal age cohort study design that selected all children in the spring of 2009 that were within a four month pen-natal window. These children will be followed in the study until they are age 3 unless they leave the Early Head Start before reaching that age.

Materials for the wave 4 program visit data collection effort, previously submitted to OMB, covered peri-natal and age 1 cohort data collections. Data collection for the age 1 cohort will be completed by October 31, 2011. ACF anticipates collecting data for an additional 12 months in order to complete data collection for the peri-natal cohort.

Respondents: Program Directors, teachers and home visitors of sampled children, parents of sampled children, sampled children.

Estimates of Annualized Burden Hours

As in the first three waves, the proposed data collection does not impose a financial burden on respondents. Respondents will not incur any expenses other than the time spent completing the interviews, reports and direct assessments.

The estimated annual burden for study respondents—parents, children, and program staff—is listed in the table below.

Response times are the same as reported in the initial OMB statement. The times were derived from previous studies using the same instruments with a similar population and confirmed with our population during earlier rounds of data collection. The number of respondents is based on the number of pen-natal cohort members as of spring 2010 (our most recent round of data collection).

Annual Burden Estimates
Instrument | Number of respondents | Number of responses per respondent | Average burden hours per response | Total burden hours
Parent Interview | 1,554 | 1 | .95 | 1,479
Program Director Interview | 90 | 1 | .67 | 60
Child Care Provider Interview | 180 | 1 | .25 | 45
Home Visitor Interview | 270 | 1 | .25 | 68
Primary Caregiver/Home Visitor Child Rating | 450 | 3.2 | .333 | 480
Family Service Tracking | 450 | 166 | .125 | 9,360
Child Direct Assessment | 774 | 1 | 1 | 774
Parent-Child Interaction | 774 | 1 | .25 | 194
Estimated Total Annual Burden Hours |  |  |  | 12,460

Additional Information

Copies of the proposed collection may be obtained by writing to the Administration for Children and Families, Office of Planning, Research and Evaluation, 370 L'Enfant Promenade, SW., Washington, DC 20447, Attn: OPRE Reports Clearance Officer. All requests should be identified by the title of the information collection.

E-mail address: OPREinfocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: July 1, 2011.
Steven M. Hanmer,
Reports Clearance Officer.

[FR Doc. 2011-16976 Filed 7-7-11; 8:45 am]

BILLING CODE 4184-03-M